DEPARTMENT OF EDUCATION

[Docket No. ED-2020-SCC-0128]

Agency Information Collection Activities; Submission to the Office of Management and Budget for Review and Approval; Comment Request; CARES Act Maintenance of Effort (MOE)

AGENCY: Office of Elementary and Secondary Education (OESE), Department of Education (ED).

ACTION: Notice.

SUMMARY: In accordance with the Paperwork Reduction Act of 1995, ED is proposing an extension without change of a currently approved collection.

DATES: Interested persons are invited to submit comments on or before December 21, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Tara Ramsey, (202) 260-2063.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CARES Act Maintenance of Effort (MOE).

OMB Control Number: 1810-0745.

Type of Review: Extension without change of a currently approved collection.

Respondents/Affected Public: State, Local, and Tribal Governments.

Total Estimated Number of Annual Responses: 56.

Total Estimated Number of Annual Burden Hours: 280.

Abstract: This is a request for an extension of a previously approved information collection that solicits from States, Outlying Areas, and State educational agencies (SEAs) maintenance of effort (MOE) data under section 18008 of the CARES Act. Under four programs—the Governor's Emergency Education Relief Fund (GEER Fund, Section 18002) and the Elementary and Secondary School Emergency Relief Fund (ESSER Fund, Section 18003) and two formula grant programs to the Outlying Areas authorized under Section 18001(a)(1),Education Stabilization Fund-State Educational Agencies (ESF—SEA) and Education Stabilization Fund-Governors (ESF—Governor)—States are required to maintain fiscal effort on behalf of elementary, secondary and postsecondary education. Recipients of the resources from the ESSER Fund, the GEER Fund, the ESF—SEA Fund, and the ESF—Governor Fund have signed Certifications and Agreements, in which they agree to abide by the provisions of the CARES Act, including MOE requirements. The Department is requesting an extension of the currently approved collection to meet the requirements of the CARES Act and ensure that States and Outlying Areas are meeting the MOE requirement. In the publication of frequently asked questions regarding the Maintenance of Effort requirement, ED issued guidance and a sample form for States and Outlying Areas to submit this statutorily required data.

Dated: November 16, 2020.
Kate Mullan,
PRA Coordinator,Strategic Collections and Clearance,Governance and Strategy Division,Office of Chief Data Officer,Office of Planning, Evaluation and Policy Development.

[FR Doc. 2020-25553 Filed 11-18-20; 8:45 am]

BILLING CODE 4000-01-P